DEPARTMENT OF AGRICULTURE

Forest Service

Beartooth Ranger District, Custer Gallatin National Forest; Carbon County, Montana; Greater Red Lodge Vegetation and Habitat Management Project

AGENCY: Forest Service, USDA.

ACTION: Notice; intent to prepare a supplemental environmental impact statement.

SUMMARY: The USDA Forest Service will prepare a Supplement to the Greater Red Lodge Vegetation and Habitat Management Project Final Environmental Impact Statement (EIS) to address the Forest Service's recent analysis and to determine whether a change in the Records of Decision are required.

DATES: The Forest Service will complete a final Supplemental EIS through preparing a draft Supplemental EIS by the fall of 2016. Once the Notice of Availability of the draft Supplemental EIS is published a required 45-day public comment period begins, 36 CFR 218.24(b)(5). At the conclusion of the 45-day period the Forest Service will (1) review and respond to comments and make necessary adjustments (based on comments) and prepare a final Supplemental EIS and (2) prepare a draft Record of Decision (“ROD”) which will include a determination of whether changes are needed in the May 19, 2015 Records of Decision. Publication of the notice of opportunity to object to the final Supplemental EIS and draft ROD initiates the required 45-day objection period, 36 CFR 218.7(b), 218.26(a). Forest Service regulations then provide the Reviewing Officer 45 days to review the objections (with the discretion to extend the time up to 30 days), 36 CFR 218.26(b), after which the Agency must respond to any instructions by the Reviewing Officer prior to signing the ROD, 36 CFR 218.12. The Forest Service anticipates signing the final ROD in April 2017.

ADDRESSES: The line officer responsible for the decision is the Forest Supervisor for the Custer Gallatin National Forest, 10 East Babcock, Bozeman, MT 59715.

FOR FURTHER INFORMATION CONTACT: Until October 1, 2016, Mark Slacks, Team Leader, at (406) 255-1450. After October 1, 2016, Amy Waring, (406) 255-1451. Individuals who use telecommunication devices for the deaf (TDD) may call the Federal Information Relay Service (FIRS) at 1-800-877-8339 between 8 a.m. and 8 p.m., Eastern Time, Monday through Friday.

SUPPLEMENTARY INFORMATION: On May 19, 2015, Forest Supervisor, Mary Erickson, approved two Records of Decision—one for the Greater Red Lodge Vegetation and Habitat Management Project (Project) and one for the Reconstruction of Nichols Creek Road. Both of these decisions were based on the Greater Red Lodge Vegetation and Habitat Management Project Final EIS. The Project encompasses approximately 21,871 acres in wildland urban interface (WUI) in Carbon County, Montana. The purposes of the project are to reduce high-intensity wildfire within the WUI, improve and maintain forest health, and improve water quality. Vegetation management proposed in the project area consists of both commercial and non-commercial vegetation fuels treatment on about 1,800 acres of land. In addition to vegetation management, the Project would decommission 3.9 miles of existing roadway. The RODs, final EIS, and supporting documents for the Project can be found at http://www.fs.usda.gov/project/?project=41368&exp=detail.

On Tuesday, June 28, 2016, the Forest Service suspended the Greater Red Lodge Area (GLRA) Stewardship Integrated Resource Timber Contract, Contract #02-200866 implementing the two RODs. No activity under the contract can occur until the suspension is lifted. The Project was suspended because the Forest Service recently discovered that the analysis of lynx critical habitat underestimated the number of acres of matrix habitat affected by the Project. At a minimum, the Forest Service will reanalyze the impacts of the Project on lynx critical habitat, in light of the corrected acres of matrix habitat. The Forest Service will not take any on-the-ground action to implement the Project until re-initiation of Endangered Species Act consultation is complete, a Supplemental EIS is issued, and the agency makes new decisions either affirming the current project or modifying the project based on the new analysis.

Nature of Decision To Be Made: The Forest Service will conduct a supplemental EIS analysis and issue a new ROD which will either affirm the existing agency decisions or will determine whether a new decision is necessary.

Scoping Process: Scoping is not required for supplements to environmental impacts statements, pursuant to 40 CFR 1509.9(c)(4). Scoping was conducted for the original EIS on June 14, 2012, and February 22, 2013. The supplement will be subject to notice and comment, as well as a predecisional administrative objection process (36 CFR part 218, subparts A and B).

Dated: August 24, 2016.
Mary C. Erickson,
Forest Supervisor.

[FR Doc. 2016-20920 Filed 8-30-16; 8:45 am]

BILLING CODE 3411-15-P